DEPARTMENT OF LABOR

Employment and Training Administration

[TA-W-72,764]

International Paper Company Franklin Pulp & Paper Mill Including On-Site Leased Workers From Railserve, Franklin, VA; Amended Certification Regarding Eligibility To Apply for Worker Adjustment Assistance

In accordance with section 223 of the Trade Act of 1974, as amended (“Act”), 19 U.S.C. 2273, the Department of Labor issued a Certification of Eligibility to Apply for Worker Adjustment Assistance on December 17th, 2009, applicable to workers of International Paper Company, Franklin Pulp & Paper Mill, Franklin, Virginia. The notice was published in the Federal Register on February 16, 2010 (75 FR 7034).

At the request of the Company, the Department reviewed the certification for workers of the subject firm. The workers are engaged in the production of uncoated freesheet paper and coated paperboard.

The company reports that workers leased from Railserve were employed on-site at the Franklin, Virginia location of International Paper Company, Franklin Pulp & Paper Mill. The Department has determined that these workers were sufficiently under the control of the subject firm to be considered leased workers.

Based on these findings, the Department is amending this certification to include workers leased from Railserve working on-site at the Franklin, Virginia location of International Paper Company, Franklin Pulp & Paper Mill.

The amended notice applicable to TA-W-72,764 is hereby issued as follows:

“All workers International Paper Company, Franklin Pulp & Paper Mill, including on-site leased workers from Railserve, Franklin, Virginia, who became totally or partially separated from employment on or after November 3, 2008, through December 17, 2011, and all workers in the group threatened with total or partial separation from employment on the date of certification through two years from the date of certification, are eligible to apply for adjustment assistance under Chapter 2 of Title II of the Trade Act of 1974, as amended.”

Signed at Washington, DC this 27th day of April 2010.
Michael W. Jaffe,
Certifying Officer, Division of Trade Adjustment Assistance.

[FR Doc. 2010-11280 Filed 5-11-10; 8:45 am]

BILLING CODE 4510-FN-P